DEPARTMENT OF AGRICULTURE

Animal and Plant Health Inspection Service

[Docket No. 04-126-1]

National Wildlife Services Advisory Committee; Notice of Renewal

AGENCY: Animal and Plant Health Inspection Service, USDA.

ACTION: Notice of renewal.

SUMMARY: We are giving notice that the Secretary of Agriculture has renewed the National Wildlife Services Advisory Committee for a 2-year period. The Secretary has determined that the Committee is necessary and in the public interest.

FOR FURTHER INFORMATION CONTACT: Ms. Joanne Garrett, Director, Operational Staff, WS, APHIS, 4700 River Road, Unit 87, Riverdale, MD 20737-1234; (301) 734-7921.

SUPPLEMENTARY INFORMATION: The purpose of the National Wildlife Services Advisory Committee (Committee) is to advise the Secretary of Agriculture on policies, program issues, and research needed to conduct the Wildlife Services program. The Committee also serves as a public forum enabling those affected by the Wildlife Services program to have a voice in the program's policies.

Done in Washington, DC, this 3rd day of May 2005.
Michael James Harrison,
Assistant Secretary for Administration.

[FR Doc. 05-9195 Filed 5-6-05; 8:45 am]

BILLING CODE 3410-34-U